DEPARTMENT OF ENERGY

Federal Energy Regulatory Commission

Combined Notice of Filings No. 2

Take notice that the Commission has received the following Natural Gas Pipeline Rate and Refund Report filings:

Docket Numbers: RP11-1566-002.

Applicants: Tennessee Gas Pipeline Company.

Description: Tennessee Gas Pipeline Company submits tariff filing per 154.203: Redesignated Docket No. Compliance Motion Rate Case Sheets to be effective 6/1/2011. Filing Type: 580.

File Date: 05/27/2011.

Accession Number: 20110527-5261.

Comment Date: 5 p.m. Eastern Time on Friday, June 10, 2011.

Docket Numbers: RP11-2008-001.

Applicants: Texas Gas Transmission, LLC.

Description: Texas Gas Transmission, LLC submits tariff filing per 154.203: RP11-2008-001 Compliance Filing (Creditworthiness) to be effective 5/15/2011.

File Date: 05/27/2011.

Accession Number: 20110527-5144.

Comment Date: 5 p.m. Eastern Time on Friday, June 10, 2011.

Docket Numbers: RP99-106-017.

Applicants: TransColorado Gas Transmission Company LLC.

Description: Form of TransColorado Gas Transmission Company LLC Revenue Sharing Report.

File Date: 05/27/2011.

Accession Number: 20110527-5205.

Comment Date: 5 p.m. Eastern Time on Friday, June 10, 2011.

Docket Numbers: RP01-382-021.

Applicants: Northern Natural Gas Company.

Description: Northern Natural Gas submits for filing its annual report setting forth the Carlton Resolution buyout, surcharge and penalty dollars reimbursed to the Carlton Sourcers on their May reservation invoices for the 2010-2011 heating season.

File Date: 06/03/2011.

Accession Number: 20110603-5220.

Comment Date: 5 p.m. Eastern Time on Wednesday, June 15, 2011.

Docket Numbers: RP11-1435-003.

Applicants: Columbia Gulf Transmission Company.

Description: Columbia Gulf Transmission Company submits tariff filing per 154.203: Rate Case—Compliance Filing—Errata to be effective 5/1/2011.

File Date: 06/03/2011.

Accession Number: 20110603-5021.

Comment Date: 5 p.m. Eastern Time on Wednesday, June 15, 2011.

Docket Numbers: RP11-1435-002.

Applicants: Columbia Gulf Transmission Company.

Description: Columbia Gulf Transmission Company submits tariff filing per 154.203: Rate Case—Compliance Filing to be effective 5/1/2011.

File Date: 05/31/2011.

Accession Number: 20110531-5182.

Comment Date: 5 p.m. Eastern Time on Monday, June 13, 2011.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified Comment Date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Dated: June 6, 2011.
Nathaniel J. Davis, Sr.
Deputy Secretary.

[FR Doc. 2011-14542 Filed 6-10-11; 8:45 am]

BILLING CODE 6717-01-P